DEPARTMENT OF DEFENSE

Office of the Secretary

Uniform Formulary Beneficiary Advisory Panel; Notice of Federal Advisory Committee Meeting; Amendment

AGENCY: Assistant Secretary of Defense (Health Affairs), Department of Defense.

ACTION: Notice of meeting; amendment.

SUMMARY: On Wednesday, February 15, 2017 (82 FR 10762), the Department of Defense published a notice announcing a Federal Advisory Committee Meeting of the Uniform Formulary Beneficiary Advisory Panel. Subsequent to the publication of the notice, an item was added to the Meeting Agenda. All other information in the February 15, 2017 notice remains the same.

DATES: Wednesday, March 22, 2017, from 9:00 a.m. to 12:00 p.m.

ADDRESSES: Naval Heritage Center Theater, 701 Pennsylvania Avenue, NW., Washington, DC 20004.

FOR FURTHER INFORMATION CONTACT: CAPT Edward Norton, DFO, Uniform Formulary Beneficiary Advisory Panel, 7700 Arlington Boulevard, Suite 5101, Falls Church, VA 22042-5101. Telephone: (703) 681-2890. Fax: (703) 681-1940. Email Address: dha.ncr.health-it.mbx.baprequests@mail.mil.

SUPPLEMENTARY INFORMATION: Due to circumstances beyond the control of the Designated Federal Officer and the Department of Defense, the Uniform Formulary Beneficiary Advisory Panel was unable to provide public notification concerning a change to a previously announced meeting agenda for a meeting on March 22, 2017, of the Uniform Formulary Beneficiary Advisory Panel as required by 41 CFR 102-3.150(a). Accordingly, the Advisory Committee Management Officer for the Department of Defense, pursuant to 41 CFR 102-3.150(b), waives the 15-calendar day notification requirement.

This meeting is being held under the provisions of the Federal Advisory Committee Act (FACA) of 1972 (5 U.S.C., Appendix, as amended), the Government in the Sunshine Act of 1976 (5 U.S.C. 552b, as amended), and 41 CFR 102-3.140.

Under the provisions of the Federal Advisory Committee Act of 1972 (5 U.S.C., Appendix, as amended), the Government in the Sunshine Act of 1976 (5 U.S.C. 552b, as amended), and 41 CFR 102-3.150, the Department of Defense announces that an item in the Meeting Agenda has changed.

The revised Meeting Agenda reads as follows:

Agenda

1. Sign-In

2. Welcome and Opening Remarks

3. Public Citizen Comments

4. Scheduled Therapeutic Class Reviews (Comments will follow each agenda item)

a. Hepatitis C Agents—Direct Acting Antivirals

b. Antibiotics—Tetracyclines

c. Proton Pump Inhibitors

5. Recently Approved Drugs Review

6. Pertinent Utilization Management Issues

7. Panel Discussions and Vote

Dated: March 13, 2017.
Aaron Siegel,
Alternate OSD Federal Register Liaison Officer, Department of Defense.

[FR Doc. 2017-05347 Filed 3-16-17; 8:45 am]

BILLING CODE 5001-06-P